DEPARTMENT OF TRANSPORTATION

Maritime Administration

[Docket Number MARAD-2019-0109]

Notice of Availability; Notice of Public Meeting; Request for Comments Port of Long Beach (POLB or Port) Pier B On-Dock Rail Support Facility Project

AGENCY: Maritime Administration, DOT.

ACTION: Notice.

SUMMARY: The U.S Department of Transportation (DOT), Maritime Administration (MARAD) announces the availability of the Draft Environmental Impact Statement (DEIS) for the Port of Long Beach (POLB or Port) Pier B On-Dock Rail Support Facility Project (Project) to support an application to DOT for Railroad Rehabilitation & Improvement Financing (RRIF) and potentially other federal funding programs. Publication of this notice begins a 45 day public comment period. A virtual public meeting will be held online and via teleconference. The public meeting will be preceded by a virtual informational open house. MARAD requests comments on the Project. Comments will inform our preparation of a Final Environmental Impact Statement (FEIS). The DEIS, supporting information, and comments will be available for viewing and download at http://www.regulations.gov under docket number MARAD-2019-0109. The FEIS, when published, will be announced and available at this site as well.

The Project is designed to address current traffic and cargo distribution bottlenecks into, out of, and within the POLB. The Project also includes consideration for anticipated future demand for cargo movement via on-dock rail; maximize on-dock intermodal operations to reach the long-term goal of 30 to 35 percent of cargo containers to be handled by on-dock rail; provide a facility that can accept and handle longer container trains; and provide a rail yard that is cost effective and fiscally prudent. The Port is applying to the RRIF Program, and potentially other federal funding programs, to support the Project.

DATES: The public comment period will end August 24, 2020. There will be one public meeting held in connection with the Project. The meeting will be held online and via teleconference Tuesday, July 28, 2020, from 6:00 p.m. to 8:00 p.m. Pacific Time (9:00 p.m.-11:00 p.m. Eastern). The public meeting will be preceded by an informational virtual open house from 4:00 p.m. to 6:00 p.m. Pacific Time (7:00 p.m.-9:00 p.m. Eastern) A supplemental notice with online access information and teleconference phone number will be published at least two weeks prior to the meeting. These portals will be open a few minutes before the meeting/open house.

The public meeting may end later than the stated time, depending on the number of persons wishing to speak. Additionally, materials submitted in response to this request for comments on the Pier B On-Dock Rail Support Facility Project must reach the Federal Docket Management Facility no later than 45 days after this notice is published in the Federal Register.

ADDRESSES: The public docket for MARAD-2019-0109 is maintained by the U.S. Department of Transportation, Docket Management Facility, West Building, Ground Floor, Room W12-140, 1200 New Jersey Avenue SE, Washington, DC 20590.

FOR FURTHER INFORMATION CONTACT: Alan Finio, Office of Environment, at telephone number: 202-366-8024 or by email at Alan.Finio.ctr@dot.gov. Persons who use a telecommunications device for the deaf (TDD) may call the Federal Information Relay Service (FIRS) at 1-800-877-8339 to contact the above individual during business hours. The FIRS is available twenty-four hours a day, seven days a week, to leave a message or question with the above individual. You will receive a reply during normal business hours. Additionally, if you go to the online docket and sign up for email alerts, you will be notified when comments or other Project documents are posted. Anonymous comments will be accepted.

SUPPLEMENTARY INFORMATION:

Request for Comments

We request public comments or other relevant information related to the Draft Environmental Impact Statement (DEIS) for the proposed Pier B On-Dock Rail Support Facility Project (Project). These comments will inform our preparation of the Final Environmental Impact Statement (FEIS). The comments may relate to, but are not limited to, the environmental impact of the proposed action. All comments will be accepted. The virtual public meeting (see Public Meeting and Open House) is not the only opportunity you will have to comment on the Project. In addition, we encourage you to submit comments electronically through the Federal eRulemaking Portal at http://www.regulations.gov under docket number MARAD-2019-0109. If you submit your comments electronically, it is not necessary to also submit a hard copy. If you cannot submit using http://www.regulations.gov, please contact Alan Finio (see FOR FURTHER INFORMATION CONTACT). If you have questions on viewing or uploading to the Docket, call Docket Operations, telephone: 202-366-9317 or 202-366-9826. Comments can also be faxed to the Federal Docket Management Facility at 202-493-2251. Please submit comments using only one method.

The comments and associated documentation, as well as the draft and final environmental impact statements (when published), will be available for viewing at the Federal Docket Management System (FDMS) website: http://www.regulations.gov under docket number MARAD-2019-0109.

Public comment submissions should include the Docket number MARAD-2019-0109.

Faxed or mailed submissions must be unbound, no larger than 8 ½ by 11 inches and suitable for copying and electronic scanning. The format of electronic submissions should also be no larger than 8 ½ by 11 inches. If you mail your submission and want to know when it reaches the Federal Docket Management Facility, please include a stamped, self-addressed postcard or envelope.

Regardless of the method used for submitting comments, all submissions will be posted, without change, to the FDMS website (http://www.regulations.gov) and will include any personal information you provide. Therefore, submitting this information to the docket makes it public. You may wish to read the Privacy and Use Notice that is available on the FDMS website and the Department of Transportation Privacy Act Notice that appeared in the Federal Register on April 11, 2000 (65 FR 19477) (see PRIVACY ACT).

Public Meeting and Open House

A virtual informational open house and public meeting will be held online and by teleconference call. We encourage you to attend the virtual informational open house and public meeting to learn about, and comment on, the proposed Project. The meeting will be held on Tuesday July 28, 2020. A supplemental notice will be published to provide meeting details including online links and call-in phone numbers at least two weeks prior to the meeting.

Those wishing to make comments during the public meeting may register online or can contact MARAD (see FOR FURTHER INFORMATION CONTACT). Comments made during the public meeting will be recognized in the following order: Elected officials, public agencies, individuals or groups in the sign-up order and then anyone else not previously registered who wishes to speak.

In order to allow everyone a chance to speak at the public meeting, we may limit comment time, extend the meeting hours, or both. Those making comments during the public meeting must identify themselves and their organization by name. Comments will be recorded and/or transcribed for inclusion in the public docket.

You may submit written material to the Federal eRulemaking Portal at http://www.regulations.gov under docket number MARAD-2019-0109, either in place of, or in addition to, speaking at the public meeting. Written material must include your name and address and will be included in the public docket (http://www.regulations.gov).

The virtual open house and public meeting will be conducted in compliance with the Americans with Disabilities Act. If you plan to attend the virtual open house or public meeting and need special assistance such as sign language interpretation, non-English language translator services or other reasonable accommodation, please notify MARAD (see FOR FURTHER INFORMATION CONTACT) at least 5 business days in advance of the public meeting. Include your contact information as well as information about your specific needs.

Summary of the Project

The City of Long Beach (COLB), acting by and through its Board of Harbor Commissioners (BHC), is proposing to construct the 12th Street Alternative in the POLB. The purposes of the proposed reconfiguration and expansion Project are to: (a) Provide a sufficient facility to accommodate the expected demand of cargo to be moved via on-dock rail into the foreseeable future; (b) maximize on-dock intermodal operations to reach the long-term goal of 30 to 35 percent of cargo containers to be handled by on-dock rail (c) provide a facility that can accept and handle longer container trains; and (d) provide a rail yard that is cost effective and fiscally prudent.

The proposed Project would be constructed in three phases over an estimated seven years and has an estimated opening year of 2025. Components of the proposed Project would include:

• Adding 31 yard tracks and five arrival/departure tracks, thereby expanding the yard from an existing 12 tracks (2 main line tracks, 10 yard tracks, and no arrival/departure tracks) to a total of 48 tracks (2 main tracks, 41 yard tracks, and five arrival/departure tracks);

• Providing for up to 10,000-foot long receiving/departure tracks;

• Widening the existing rail bridge over Dominguez Channel to accommodate one additional track; and

• Constructing an area for locomotive refueling within the yard.

Realignments and closures of some roadways would be required. Pier B Street would be realigned to the south, its geometrics would be improved, and two lanes of traffic in each direction would be provided.

• The realignment of Pier B Street would require the reconstruction of two intersections, at Anaheim Way and Edison Avenue.

• The existing at-grade 9th Street railroad grade crossing would be closed and the Shoemaker ramps removed.

• Pico Avenue would be realigned to the west beginning at the I-710 ramps south to approximately Pier D Street, allowing space for four additional tracks between Pico Avenue and the I-710 freeway.

• Areas needed for new rail tracks would require the closure of portions of 9th, 10th, 11th, and 12th streets and Edison, Jackson, Santa Fe, Canal, Caspian, Harbor, and Fashion avenues between Anaheim Street and Pier B Street, in the City of Long Beach.

• Portions of Farragut, Foote, Cushing, Macdonough, and Schley avenues would be closed in the vicinity of existing railroad right-of-way (ROW) in the City of Long Beach.

The proposed Project would be located in two POLB Planning Districts (the Northeast Harbor and North Harbor); the site also includes the Wilmington-Harbor City Community Plan Area of the City of Los Angeles. The Project site is generally situated between Dominguez Channel to the west, Interstate 710 (I-710) to the east, Ocean Boulevard to the south, and Anaheim Street to the north. The proposed Project area includes rail tracks that extend west beyond the Terminal Island Freeway (State Route 103) to just west of Dominguez Channel, where they connect with the Alameda Corridor, and also south as far as Ocean Boulevard. In addition to privately owned property, a variety of public agencies own property within the Project site and in its vicinity, including the POLB, COLB, City of Los Angeles, Port of Los Angeles, Union Pacific and Burlington Northern Santa Fe railroads; Alameda Corridor Transportation Authority; Los Angeles County Flood Control District; and Southern California Edison.

Privacy Act

In accordance with 5 U.S.C. 553(c), MARAD solicits comments from the public to better inform its administrative process. MARAD posts these comments, without edit, including any personal information the commenter provides, to http://www.regulations.gov, as described in the system of records notice (DOT/ALL-14 FDMS), which can be reviewed at http://www.dot.gov/privacy. If you wish to provide comments containing proprietary or confidential information, please contact the agency for alternate submission instructions.

(Authority: 42 U.S.C. 4321, et seq., 40 CFR parts 1500-1508, Department of Transportation Order 5610.1C, and MARAD Administrative Order 600-1)

Dated: July 2, 2020.
By Order of the Maritime Administrator.
T. Mitchell Hudson, Jr.,
Secretary, Maritime Administration.

[FR Doc. 2020-14716 Filed 7-7-20; 8:45 am]

BILLING CODE 4910-81-P